DEPARTMENT OF ENERGY

Federal Energy Regulatory Commission

[Docket No. CP02-27-000]

Florida Gas Transmission Company; Notice of Site Visit

February 15, 2002.

On February 25 through 28, 2002, the staff of the Office of Energy Projects (OEP) will conduct a pre-certification site visit of Florida Gas Transmission Company's (FGT) proposed route and potential alternative routes for the Phase VI Expansion Project in Alabama and Florida.

All interested parties may attend. The areas will be inspected by automobile. Representatives of FGT will accompany the OEP staff. Anyone interested in participating in the site visits must provide their own transportation. For additional information, contact the Commission's Office of External Affairs at (202) 208-1088.

Magalie R. Salas,
Secretary.

[FR Doc. 02-4244 Filed 2-21-02; 8:45 am]

BILLING CODE 6717-01-P